ENVIRONMENTAL PROTECTION AGENCY

[EPA-HQ-OAR-2011-0901; FRL-9503-1]

Agency Information Collection Activities; Proposed Collections; Comment Request; Prevention of Significant Deterioration and Nonattainment Area New Source Review (Renewal)

AGENCY: Environmental Protection Agency (EPA).

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on April 30, 2012. Before submitting this ICR to OMB for review and approval, EPA is soliciting comments on specific aspects of the proposed information collection as described below.

DATES: Comments must be submitted on or before February 6, 2012.

ADDRESSES: Submit your comments, identified by Docket ID No. EPA-HQ-OAR-2011-0901, by one of the following methods:

• http://www.regulations.gov: Follow the on-line instructions for submitting comments.

• Email: a-and-r-docket@epa.gov.

• Fax: (202) 566-9744.

• Mail: Agency Information Collection Activities; Proposed Collection; Comment Request; Prevention of Significant Deterioration and Nonattainment Area New Source Review (Renewal) Docket, Environmental Protection Agency, Air and Radiation Docket and Information Center, Mailcode: 2822T, 1200 Pennsylvania Ave. NW., Washington, DC 20460. Please include a total of two copies.

• Hand Delivery: EPA Docket Center, Public Reading Room, EPA West, Room 3334, 1301 Constitution Ave. NW., Washington, DC 20460. Such deliveries are only accepted during the Docket's normal hours of operation, and special arrangements should be made for deliveries of boxed information.

Instructions: Direct your comments to Docket ID No. EPA-HQ-OAR-2011-0901. The EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means the EPA will not know your identity or contact information unless you provide it in the body of your comment. If you send an email comment directly to the EPA without going through http://www.regulations.gov, your email address will be automatically captured and included as part of the comment that is placed in the public docket and made available on the Internet. If you submit an electronic comment, the EPA recommends that you include your name and other contact information in the body of your comment and with any disk or CD-ROM you submit. If the EPA cannot read your comment due to technical difficulties and cannot contact you for clarification, the EPA may not be able to consider your comment. Electronic files should avoid the use of special characters, any form of encryption and be free of any defects or viruses. For additional information about the EPA's public docket visit the EPA Docket Center homepage at http://www.epa.gov/epahome/dockets.htm.

FOR FURTHER INFORMATION CONTACT: Mr. David Painter, Air Quality Policy Division, Office of Air Quality Planning and Standards (C504-03), Environmental Protection Agency, Research Triangle Park, North Carolina 27711; telephone number: (919) 541-5515; fax number: (919) 541-5509; email address: painter.david@epa.gov.

SUPPLEMENTARY INFORMATION:

How can I access the docket and/or submit comments?

The EPA has established a public docket for this ICR under Docket ID No. EPA-HQ-OAR-2011-0901, which is available for online viewing at http://www.regulations.gov, or in person viewing at the Air and Radiation Docket in the EPA Docket Center (EPA/DC), EPA West, Room 3334, 1301 Constitution Ave. NW., Washington, DC. The EPA/DC Public Reading Room is open from 8:30 a.m. to 4:30 p.m., Monday through Friday, excluding legal holidays. The telephone number for the Public Reading Room is (202) 566-1744.

Use http://www.regulations.gov to obtain a copy of the draft collection of information, submit or view public comments, access the index listing of the contents of the docket and access those documents in the public docket that are available electronically. Once in the system, select “search,” then key in the docket ID number identified in this document.

What information is EPA particularly interested in?

Pursuant to section 3506(c)(2)(A) of the PRA, the EPA specifically solicits comments and information to enable it to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility and clarity of the information to be collected; and

(iv) Minimize the burden of the collection of information on those who are to respond, including through the use of appropriate automated electronic, mechanical or other technological collection techniques or other forms of information technology, e.g., permitting electronic submission of responses. In particular, the EPA is requesting comments from very small businesses (those that employ less than 25) on examples of specific additional efforts that the EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by the EPA, be sure to identify the docket ID number assigned to this action in the subject line on the first page of your response. You may also provide the name, date, and Federal Register citation.

What information collection activity does this apply to?

Affected entities: Entities potentially affected by this action are those which must apply for and obtain a preconstruction permit under part C or D or section 110(a)(2)(C) of title I of the Clean Air Act (Act).

Title: Prevention of Significant Deterioration and Nonattainment Area New Source Review (Renewal).

ICR number: EPA ICR No. 1230.29, OMB Control No. 2060-0003.

ICR status: This ICR is scheduled to expire on April 30, 2012.

Abstract: Part C of the Clean Air Act (Act)—“Prevention of Significant Deterioration,” and Part D—“Plan Requirements for Nonattainment Areas,” require all states to adopt preconstruction review programs for new or modified stationary sources of air pollution. In addition, the provisions of section 110 of the Act include a requirement for states to have a preconstruction review program to manage the emissions from the construction and modification of any stationary source of air pollution to assure that the National Ambient Air Quality Standards (NAAQS) are achieved and maintained. An agency may not conduct or sponsor, and a person is not required to respond to, a collection of information request unless it displays a currently valid OMB control number. The OMB control numbers for the EPA's regulations in 40 CFR are listed in 40 CFR part 9 and 48 CFR chapter 15. Section 176(c) of the Clean Air Act (42 U.S.C. 7401 et seq.) requires that all federal actions conform with the state implementation plans (SIPs) to attain and maintain the NAAQS. Depending on the type of action, the federal entities must collect information themselves, hire consultants to collect the information, or require applicants/sponsors of the federal action to provide the information.

Implementing regulations for these three programs are promulgated at 40 CFR 51.160 through 51.166; 40 CFR part 51, Appendix S; and 40 CFR 52.21 and 52.24. In order to receive a construction permit for a major new source or major modification, the applicant must conduct the necessary research, perform the appropriate analyses and prepare the permit application with documentation to demonstrate that their project meets all applicable statutory and regulatory New Source Review requirements. Specific activities and requirements are listed and described in the Supporting Statement for the ICR.

State, local, or federal reviewing authorities review permit applications and provide for public review of proposed projects and issue permits based on their consideration of all technical factors and public input. The EPA, more broadly, reviews a fraction of the total applications and audits the state and local programs for their effectiveness. Consequently, information prepared and submitted by sources is essential for sources to receive permits, and for federal, state, and local environmental agencies to adequately review the permit applications and thereby properly administer and manage the NSR programs.

Since the previous renewal of this ICR, the EPA has filled regulatory voids that existed in Indian country (where state NSR programs do not apply) by promulgating a Part D program and a minor NSR program for Indian country. (The EPA was already implementing a Part C program in Indian country.) The implementing regulations for these programs are at 40 CFR 49.151 through 49.173. The EPA acts as the reviewing authority for these programs.

Information that is collected is handled according to EPA's policies set forth in title 40, chapter 1, part 2, subpart B—Confidentiality of Business Information (see 40 CFR part 2). See also section 114(c) of the Act.

Burden Statement: Burden means the total time, effort or financial resources expended by persons to generate, maintain, retain or disclose or provide information to or for a federal agency. This includes the time needed to review instructions; develop, acquire, install and utilize technology and systems for the purposes of collecting, validating and verifying information, processing and maintaining information and disclosing and providing information; adjust the existing ways to comply with any previously applicable instructions and requirements; train personnel to be able to respond to a collection of information; search data sources; complete and review the collection of information; and transmit or otherwise disclose the information.

The annual public reporting and recordkeeping burden for this collection of information is broken down as follows:

Type of permit action | Major PSD | Major Part D | Minor
State Programs:
Number of Sources | 1,610 | 486 | 72,841
Burden Hours per Response: |  |  |
Industry | 1,006 | 642 | 39
Reviewing Authorities | 336 | 128 | 29
Total Annual Burden Hours |  |  |
Industry | 1,619,660 | 312,012 | 2,822,885
Reviewing Authorities | 540,960 | 62,208 | 2,095,140
Indian Country Program
Number of Sources | ( ᵃ) | ( ᵃ) | 12,432
Industry Burden Hours per Response | ( ᵃ) | ( ᵃ) | 39
Industry Total Annual Burden Hours | ( ᵃ) | ( ᵃ) | 479,435
Any minor discrepencies are due to rounding.
ᵃ The PSD and Part D programs in Indian country are included in the state program figures.

In addition, we estimate that the 112 state and local reviewing authorities will prepare and submit an average of 51 SIP revisions per year to conform to changes in the NSR regulations, for a total annual burden of 2,040 hours. Besides the burden hours tallied above for permitting and SIP revisions, we estimate that 34 of the sources subject to PSD permitting are required to conduct pre-construction monitoring which they outsource, representing start-up costs totaling $12,444,204.

Respondents/Affected Entities: Industrial plants; state and local reviewing authorities.

Estimated Number of Respondents: 87,481, including 87,369 industry sources and 112 state and local reviewing authorities generating a total of 162,357 responses.

Estimated Total Annual Burden: 7,934,340 hours and $12,444,204.

Are there changes in the estimates from the last approval?

Since the last renewal of this ICR (October 2008), the estimated number of responses has increased by 11,536 due primarily to the addition of the minor NSR program for Indian country which requires all existing minor sources to register within the first 3 years of the program. In addition, actions under the Act unrelated to NSR rule changes brought greenhouse gases into the prevention of significant deterioration (PSD) program, but the potentially overwhelming increase in permit actions that this might have caused was limited to a manageable level (fewer than 1,350 sources) by the Greenhouse Gas Tailoring Rule. Partially counteracting these increases, the Flexible Air Permitting Rule had the effect of reducing the number of respondents under the PSD, Part D, and minor NSR programs.

The burden per PSD permit has increased due to the addition of greenhouse gases to the program. In addition, provisions were added to the PSD regulations that allow for full implementation of the program for particulate matter less than 2.5 micrograms (PM2.5), which has resulted in an increase in the modeling required for PSD permits and, thus, an increase in the per-permit burden. The Flexible Air Permitting Rule marginally increased the per-permit burden for the PSD and Part D programs, although the overall effect of the rule was to reduce total burden because of the reduction in the number of permit actions. The Flexible Air Permitting Rule also slightly reduced the burden per minor NSR permit.

As a result of all these changes to the NSR program, the total burden for the program has increased by 1,983,272 hours.

What is the next step in the process for this ICR?

The EPA will consider the comments received and amend the ICR as appropriate. The final ICR package will then be submitted to OMB for review and approval pursuant to 5 CFR 1320.12. At that time, EPA will issue another Federal Register notice pursuant to 5 CFR 1320.5(a)(1)(iv) to announce the submission of the ICRs to OMB and the opportunity to submit additional comments to OMB. If you have any questions about this ICR or the approval process, please contact the technical person listed under FOR FURTHER INFORMATION CONTACT.

Dated: December 5, 2011.
Mary E Henigin,
Acting Director, Office of Air Quality Planning and Standards.

[FR Doc. 2011-31528 Filed 12-7-11; 8:45 am]

BILLING CODE 6560-50-P